DEPARTMENT OF COMMERCE

Bureau of Economic Analysis

Federal Economic Statistics Advisory Committee

AGENCY: Bureau of Economic Analysis, Department of Commerce.

ACTION: Notice of advisory committee renewal.

SUMMARY: The Secretary of Commerce has determined that renewal of the charter of the Federal Economic Statistics Advisory Committee (FESAC) is necessary and in the public interest in connection with the performance of duties imposed by law on the U.S. Department of Commerce, established within the Office of the Under Secretary for Economic Affairs, U.S. Department of Commerce and administered by the Bureau of Economic Analysis. The renewed FESAC charter can be found on the Bureau of Economic Analysis' FESAC website at the following link: https://apps.bea.gov/fesac/.

FOR FURTHER INFORMATION CONTACT: Gianna Marrone, Program Analyst, U.S. Department of Commerce, Bureau of Economic Analysis, Suitland, MD 20746; telephone number: (301) 278-9282; email: gianna.marrone@bea.gov.

SUPPLEMENTARY INFORMATION: The Committee presents advice and makes recommendations to the directors of the U.S. Department of Commerce's statistical agencies, the Bureau of Economic Analysis (BEA) and the U.S. Census Bureau, as well as the Commissioner of the U.S. Department of Labor's Bureau of Labor Statistics (BLS), The Committee examines the agencies' programs and provides advice on statistical methodology, research needed, and other technical matters related to the collection, tabulation, and analysis of Federal economic statistics. The Committee is a technical committee that is balanced in terms of the professional expertise required. It consists of approximately 16 members, appointed by the Under Secretary for Economic Affairs in coordination with the directors of the statistical agencies or their designees listed above. Its members are professionals in appropriate disciplines, including economists, statisticians, survey methodologists, behavioral scientists, and computer scientists/engineers who are prominent experts in their fields, recognized for their scientific, professional, and operational achievements and objectivity. The FESAC will function solely as an advisory body and in compliance with provisions of the Federal Advisory Committee Act, as amended (FACA), 5 U.S.C. 1001 et seq. Pursuant to subsection 1008(c) of the FACA, this charter was filed with the Deputy Assistant Secretary for Administration, Performing the non-exclusive functions and duties of the Chief Financial Officer and Assistant Secretary for Administration, Department of Commerce, on September 27, 2024. Subsequently, a copy was furnished to the Library of Congress and filed with the following Committees of Congress: Senate Committee on Appropriations; Senate Committee on Finance; Senate Committee on Commerce, Science and Transportation; Senate Committee on Homeland Security and Governmental Affairs; House Committee on Appropriations; and House Committee on Oversight and Government Reform.

Dated: October 15, 2024.
Gianna Marrone,
Alternate Designated Federal Officer, Bureau of Economic Analysis.

[FR Doc. 2024-24484 Filed 10-21-24; 8:45 am]

BILLING CODE 3510-06-P